DEPARTMENT OF TRANSPORTATION

National Highway Traffic Safety Administration

[Docket No. NHTSA-01-8906; Notice 02]

RIN 2127-AI06

Final Theft Data; Motor Vehicle Theft Prevention Standard

AGENCY: National Highway Traffic Safety Administration (NHTSA), Department of Transportation.

ACTION: Publication of final theft data.

SUMMARY: This document publishes the final data on thefts of model year (MY) 1999 passenger motor vehicles that occurred in calendar year (CY) 1999. The final 1999 theft data indicate an increase in the vehicle theft rate when compared to the theft rate experienced in CY/MY 1998. The final theft rate for MY 1999 passenger vehicles stolen in calendar year 1999 (2.89 thefts per thousand vehicles produced) increased by 14.2 percent from the theft rate for CY/MY 1998 vehicles (2.53 thefts per thousand vehicles produced). Publication of these data fulfills NHTSA's statutory obligation to periodically obtain accurate and timely theft data and publish the information for review and comment.

FOR FURTHER INFORMATION CONTACT: Ms. Deborah Mazyck, Office of Planning and Consumer Programs, NHTSA, 400 Seventh Street, SW., Washington, DC 20590. Ms. Mazyck's telephone number is (202) 366-0846. Her fax number is (202) 493-2290.

SUPPLEMENTARY INFORMATION: NHTSA administers a program for reducing motor vehicle theft. The central feature of this program is the Federal Motor Vehicle Theft Prevention Standard, 49 CFR Part 541. The standard specifies performance requirements for inscribing and affixing vehicle identification numbers (VINs) onto certain major original equipment and replacement parts of high-theft lines of passenger motor vehicles.

The agency is required by 49 U.S.C. 33104(b)(4) to periodically obtain, from the most reliable source, accurate and timely theft data and publish the data for review and comment. To fulfill this statutory mandate, NHTSA has published theft data annually beginning with MYs 1983/84. Continuing to fulfill the § 33104(b)(4) mandate, this document reports the final theft data for CY 1999, the most recent calendar year for which data are available.

In calculating the 1999 theft rates, NHTSA followed the same procedures it used in calculating the MY 1998 theft rates. (For 1998 theft data calculations, see 65 FR 40721, June 30, 2000.) As in all previous reports, NHTSA's data were based on information provided to NHTSA by the National Crime Information Center (NCIC) of the Federal Bureau of Investigation. The NCIC is a government system that receives vehicle theft information from nearly 23,000 criminal justice agencies and other law enforcement authorities throughout the United States. The NCIC data also include reported thefts of self-insured and uninsured vehicles, not all of which are reported to other data sources.

The 1999 theft rate for each vehicle line was calculated by dividing the number of reported thefts of MY 1999 vehicles of that line stolen during calendar year 1999 by the total number of vehicles in that line manufactured for MY 1999, as reported to the Environmental Protection Agency (EPA).

The final 1999 theft data show an increase in the vehicle theft rate when compared to the theft rate experienced in CY/MY 1998. The final theft rate for MY 1999 passenger vehicles stolen in CY 1999 increased to 2.89 thefts per thousand vehicles produced, an increase of 14.2 percent from the rate of 2.53 thefts per thousand vehicles experienced by MY 1998 vehicles in CY 1998. For MY 1999 vehicles, out of a total of 201 vehicle lines, 54 lines had a theft rate higher than 3.5826 per thousand vehicles, the established median theft rate for MYs 1990/1991. (See 59 FR 12400, March 16, 1994.) Of the 54 vehicle lines with a theft rate higher than 3.5826, 50 are passenger car lines, four are multipurpose passenger vehicle lines, and none are light-duty truck lines.

On Wednesday, March 14, 2001, NHTSA published the preliminary theft rates for CY 1999 passenger motor vehicles in the Federal Register (66 FR 14979). The agency tentatively ranked each of the MY 1999 vehicle lines in descending order of theft rate. The public was requested to comment on the accuracy of the data and to provide final production figures for individual vehicle lines. The agency received written comments from Volkswagen of America, Inc. (VW). The agency used VW's written comments to make the necessary adjustments to its data. As a result of the adjustments, some of the final theft rates and rankings of vehicle lines changed from those published in the March 2001 notice.

In its comments, VW informed the agency that the production volume for the VW Cabrio vehicle line was incorrect. In response to this comment, the production volume for the VW Cabrio has been corrected and the final theft list has been revised accordingly. As a result of the correction, the VW Cabrio previously ranked No. 111 with a theft rate of 1.8398, is now ranked No. 159 with a theft rate of 1.0181. Additionally, VW informed the agency that the production volumes for the Rolls Royce Silver Spur and the Rolls Royce Silver Spur Park Ward were interchanged. In response to this comment, the production volumes for the Rolls Royce Silver Spur and the Rolls Royce Silver Spur Park Ward have been corrected and the final theft list has been revised accordingly. As a result of the correction, the Rolls Royce Silver Spur with a production volume of two has been revised to reflect a production volume of 51, and the Rolls Royce Silver Spur Park Ward with a production volume of 51 has been revised to reflect a production volume of two.

The following list represents NHTSA's final calculation of theft rates for all 1999 passenger motor vehicle lines. This list is intended to inform the public of calendar year 1999 motor vehicle thefts of model year 1999 vehicles and does not have any effect on the obligations of regulated parties under 49 U.S.C. Chapter 331, Theft Prevention.

Theft Rates of Model Year 1999 Passenger Motor Vehicles Stolen in Calendar Year 1999
No. | Manufacturer | Make/model (line) | Thefts 1999 | Production (Mfr's) 1999 | 1999 theft rate (per 1,000 vehicles produced)
1 | HONDA | ACURA INTEGRA | 496 | 25,790 | 19.2323
2 | DAIMLERCHRYSLER | INTREPID ¹ | 9 | 480 | 18.7500
3 | MITSUBISHI | MIRAGE | 564 | 53,884 | 10.4669
4 | DAIMLERCHRYSLER | PLYMOUTH NEON | 350 | 38,944 | 8.9873
5 | DAIMLERCHRYSLER | NEON¹ | 2 | 226 | 8.8496
6 | MITSUBISHI | MONTERO SPORT/NATIVA² | 368 | 42,268 | 8.7063
7 | DAIMLERCHRYSLER | DODGE STRATUS | 715 | 84,128 | 8.4990
8 | DAIMLERCHRYSLER | DODGE INTREPID | 1,104 | 139,847 | 7.8943
9 | DAIMLERCHRYSLER | DODGE NEON | 448 | 56,850 | 7.8804
10 | BMW | Z3 | 18 | 2,547 | 7.0671
11 | MITSUBISHI | ECLIPSE | 349 | 50,070 | 6.9702
12 | DAIMLERCHRYSLER | SEBRING CONVERTIBLE | 319 | 46,758 | 6.8224
13 | GENERAL MOTORS | OLDSMOBILE ALERO | 799 | 121,343 | 6.5846
14 | DAIMLERCHRYSLER | PLYMOUTH BREEZE | 367 | 56,048 | 6.5480
15 | MITSUBISHI | DIAMANTE | 54 | 8,347 | 6.4694
16 | MITSUBISHI | GALANT | 390 | 62,488 | 6.2412
17 | DAIMLERCHRYSLER | STRATUS ¹ | 3 | 482 | 6.2241
18 | BMW | M3 | 41 | 7,415 | 5.5293
19 | KIA MOTORS | SEPHIA | 315 | 57,099 | 5.5167
20 | DAEWOO | LEGANZA | 74 | 14,217 | 5.2050
21 | GENERAL MOTORS | PONTIAC SUNFIRE | 383 | 74,944 | 5.1105
22 | NISSAN | SENTRA/200SX | 399 | 79,115 | 5.0433
23 | GENERAL MOTORS | PONTIAC GRAND AM | 1,510 | 299,775 | 5.0371
24 | TOYOTA | TERCEL | 59 | 12,122 | 4.8672
25 | SUZUKI | ESTEEM | 69 | 14,255 | 4.8404
26 | MERCEDES BENZ | 140 (CL-CLASS & S-CLASS) | 63 | 13,532 | 4.6556
27 | FORD MOTOR CO | MUSTANG | 579 | 125,973 | 4.5962
28 | FORD MOTOR CO | MERCURY TRACER | 117 | 25,972 | 4.5049
29 | GENERAL MOTORS | PONTIAC BONNEVILLE | 231 | 53,371 | 4.3282
30 | GENERAL MOTORS | OLDSMOBILE CUTLASS | 186 | 43,584 | 4.2676
31 | NISSAN | ALTIMA | 739 | 174,349 | 4.2386
32 | FORD MOTOR CO | LINCOLN TOWN CAR | 379 | 89,564 | 4.2316
33 | GENERAL MOTORS | CHEVROLET CAVALIER | 986 | 233,756 | 4.2181
34 | DAIMLERCHRYSLER | CIRRUS | 138 | 32,903 | 4.1941
35 | MITSUBISHI | MONTERO | 31 | 7,399 | 4.1898
36 | GENERAL MOTORS | OLDSMOBILE INTRIGUE | 359 | 86,481 | 4.1512
37 | DAIMLERCHRYSLER | LHS | 149 | 36,369 | 4.0969
38 | HONDA | PRELUDE | 46 | 11,366 | 4.0472
39 | JAGUAR | XJ8 | 29 | 7,235 | 4.0083
40 | DAIMLERCHRYSLER | JEEP CHEROKEE | 610 | 154,377 | 3.9514
41 | GENERAL MOTORS | BUICK REGAL | 286 | 73,309 | 3.9013
42 | NISSAN | INFINITI Q45 | 28 | 7,208 | 3.8846
43 | HONDA | CIVIC | 1,039 | 269,109 | 3.8609
44 | GENERAL MOTORS | CADILLAC DEVILLE | 411 | 106,554 | 3.8572
45 | GENERAL MOTORS | CHEVROLET MALIBU | 822 | 213,692 | 3.8467
46 | GENERAL MOTORS | CHEVROLET BLAZER | 762 | 199,042 | 3.8283
47 | TOYOTA | LEXUS GS | 116 | 30,513 | 3.8017
48 | FORD MOTOR CO | CONTOUR | 524 | 139,339 | 3.7606
49 | DAEWOO | LANOS | 31 | 8,312 | 3.7295
50 | MITSUBISHI | 3000GT | 12 | 3,244 | 3.6991
51 | GENERAL MOTORS | CHEVROLET METRO | 95 | 25,749 | 3.6895
52 | TOYOTA | COROLLA | 940 | 255,693 | 3.6763
53 | MERCEDES BENZ | 208 (CLK-CLASS) | 65 | 17,795 | 3.6527
54 | DAIMLERCHRYSLER | DODGE AVENGER | 61 | 16,883 | 3.6131
55 | KIA MOTORS | SPORTAGE | 135 | 38,232 | 3.5311
56 | SUZUKI | VITARA/GRAND VITARA | 124 | 35,651 | 3.4782
57 | DAEWOO | NUBIRA | 33 | 9,553 | 3.4544
58 | GENERAL MOTORS | PONTIAC FIREBIRD/TRANS AM/FORMULA | 119 | 35,115 | 3.3889
59 | HYUNDAI | SONATA | 82 | 24,539 | 3.3416
60 | FORD MOTOR CO | MERCURY MYSTIQUE | 134 | 40,939 | 3.2732
61 | FORD MOTOR CO | ESCORT | 933 | 287,150 | 3.2492
62 | HYUNDAI | TIBURON | 23 | 7,215 | 3.1878
63 | ISUZU | RODEO | 230 | 72,544 | 3.1705
64 | HYUNDAI | ACCENT | 120 | 37,950 | 3.1621
65 | GENERAL MOTORS | CHEVROLET CAMARO | 123 | 39,041 | 3.1505
66 | GENERAL MOTORS | PONTIAC GRAND PRIX | 437 | 142,546 | 3.0657
67 | GENERAL MOTORS | CHEVROLET CORVETTE | 90 | 29,904 | 3.0096
68 | JAGUAR | XK8 | 17 | 5,747 | 2.9581
69 | NISSAN | PATHFINDER | 181 | 61,310 | 2.9522
70 | DAIMLERCHRYSLER | SEBRING COUPE | 81 | 27,519 | 2.9434
71 | MAZDA | PROTEGE | 208 | 70,802 | 2.9378
72 | MERCEDES BENZ | 129 (SL-CLASS) | 28 | 9,633 | 2.9067
73 | ROLLS-ROYCE | BENTLEY ARNAGE | 1 | 348 | 2.8736
74 | GENERAL MOTORS | CHEVROLET LUMINA/MONTE CARLO | 561 | 197,430 | 2.8415
75 | FORD MOTOR CO | EXPLORER | 1,099 | 386,943 | 2.8402
76 | MAZDA | 626 | 244 | 88,473 | 2.7579
77 | FORD MOTOR CO | TAURUS | 1,163 | 423,308 | 2.7474
78 | BMW | 7 | 23 | 8,391 | 2.7410
79 | DAIMLERCHRYSLER | CONCORDE | 175 | 64,234 | 2.7244
80 | GENERAL MOTORS | CHEVROLET PRIZM | 136 | 49,999 | 2.7201
81 | DAIMLERCHRYSLER | 300 M | 206 | 76,130 | 2.7059
82 | HYUNDAI | ELANTRA | 158 | 60,317 | 2.6195
83 | DAIMLERCHRYSLER | JEEP GRAND CHEROKEE | 729 | 284,429 | 2.5630
84 | DAIMLERCHRYSLER | PLYMOUTH VOYAGER/GRAND | 377 | 150,111 | 2.5115
85 | NISSAN | INFINITI QX4 | 59 | 23,505 | 2.5101
86 | SUZUKI | SWIFT | 5 | 1,998 | 2.5025
87 | NISSAN | MAXIMA | 239 | 95,789 | 2.4951
88 | TOYOTA | TACOMA PICKUP TRUCK | 412 | 167,637 | 2.4577
89 | FORD MOTOR CO | MERCURY SABLE | 295 | 120,113 | 2.4560
90 | MAZDA | MILLENIA | 47 | 19,249 | 2.4417
91 | GENERAL MOTORS | CADILLAC SEVILLE | 86 | 35,624 | 2.4141
92 | FORD MOTOR CO | MERCURY COUGAR | 212 | 88,258 | 2.4020
93 | FORD MOTOR CO | MERCURY MOUNTAINEER | 105 | 43,743 | 2.4004
94 | HONDA | ACURA RL | 31 | 12,961 | 2.3918
95 | VOLVO | C70 | 12 | 5,087 | 2.3590
96 | DAIMLERCHRYSLER | JEEP WRANGLER | 197 | 84,990 | 2.3179
97 | TOYOTA | 4-RUNNER | 292 | 126,929 | 2.3005
98 | HONDA | ACURA SLX | 2 | 870 | 2.2989
99 | NISSAN | FRONTIER PICKUP TRUCK | 104 | 45,256 | 2.2980
100 | GENERAL MOTORS | OLDSMOBILE BRAVADA | 57 | 25,782 | 2.2108
101 | GENERAL MOTORS | BUICK CENTURY | 329 | 150,061 | 2.1924
102 | GENERAL MOTORS | CADILLAC ELDORADO | 35 | 15,982 | 2.1900
103 | GENERAL MOTORS | GMC JIMMY S-15 | 137 | 63,541 | 2.1561
104 | TOYOTA | CAMRY/CAMRY SOLARA | 1,040 | 490,959 | 2.1183
105 | DAIMLERCHRYSLER | DODGE CARAVAN/GRAND | 595 | 297,350 | 2.0010
106 | ISUZU | TROOPER | 46 | 23,094 | 1.9919
107 | VOLKSWAGEN | GOLF/GTI | 28 | 14,204 | 1.9713
108 | FORD MOTOR CO | RANGER PICKUP TRUCK | 692 | 356,716 | 1.9399
109 | ISUZU | HOMBRE PICKUP TRUCK | 5 | 2,595 | 1.9268
110 | GENERAL MOTORS | CHEVROLET ASTRO VAN | 146 | 76,071 | 1.9193
111 | TOYOTA | RAV4 | 109 | 60,776 | 1.7935
112 | TOYOTA | LEXUS SC | 5 | 2,822 | 1.7718
113 | MERCEDES BENZ | 163 (ML-CLASS) | 91 | 51,970 | 1.7510
114 | MERCEDES BENZ | 210 (E-CLASS) | 97 | 55,719 | 1.7409
115 | VOLKSWAGEN | JETTA | 191 | 109,769 | 1.7400
116 | DAIMLERCHRYSLER | DODGE DAKOTA PICKUP TRUCK | 233 | 134,058 | 1.7381
117 | BMW | 3 | 97 | 56,197 | 1.7261
118 | BMW | 5 | 52 | 30,490 | 1.7055
119 | HONDA | ACCORD | 607 | 356,993 | 1.7003
120 | PONTIAC | MONTANA VAN | 97 | 58,081 | 1.6701
121 | NISSAN | INFINITI G20 | 38 | 22,842 | 1.6636
122 | GENERAL MOTORS | CHEVROLET S-10 PICKUP TRUCK | 296 | 179,498 | 1.6490
123 | TOYOTA | CELICA | 8 | 4,868 | 1.6434
124 | GENERAL MOTORS | SATURN SL | 311 | 190,414 | 1.6333
125 | MERCEDES BENZ | 170 (SLK-CLASS) | 22 | 13,875 | 1.5856
126 | FORD MOTOR CO | F-150 PICKUP TRUCK | 276 | 174,285 | 1.5836
127 | GENERAL MOTORS | OLDSMOBILE 88/REGENCY | 61 | 39,921 | 1.5280
128 | GENERAL MOTORS | GMC SONOMA PICKUP TRUCK | 66 | 43,355 | 1.5223
129 | SAAB | 9-5 | 37 | 24,666 | 1.5000
130 | VOLVO | S80 | 37 | 24,976 | 1.4814
131 | FERRARI | F355 | 1 | 694 | 1.4409
132 | GENERAL MOTORS | GMC SAFARI VAN | 34 | 23,613 | 1.4399
133 | TOYOTA | AVALON | 89 | 61,819 | 1.4397
134 | MAZDA | B SERIES PICKUP TRUCK | 62 | 44,452 | 1.3948
135 | FORD MOTOR CO | LINCOLN CONTINENTAL | 37 | 27,054 | 1.3676
136 | DAIMLERCHRYSLER | TOWN & COUNTRY MPV | 104 | 76,795 | 1.3543
137 | VOLVO | S70/V70 | 80 | 59,367 | 1.3475
138 | SAAB | 9-3 | 46 | 34,580 | 1.3302
139 | HONDA | PASSPORT | 36 | 27,499 | 1.3091
140 | GENERAL MOTORS | BUICK PARK AVENUE | 78 | 59,904 | 1.3021
141 | TOYOTA | LEXUS RX | 118 | 91,102 | 1.2953
142 | TOYOTA | LEXUS ES | 58 | 46,162 | 1.2564
143 | NISSAN | QUEST | 50 | 40,506 | 1.2344
144 | GENERAL MOTORS | OLDSMOBILE AURORA | 23 | 18,729 | 1.2280
145 | GENERAL MOTORS | CADILLAC LIMOUSINE | 1 | 821 | 1.2180
146 | FORD MOTOR CO | MERCURY GRAND MARQUIS | 146 | 122,586 | 1.1910
147 | GENERAL MOTORS | CHEVROLET TRACKER | 41 | 34,839 | 1.1768
148 | GENERAL MOTORS | BUICK LESABRE | 117 | 100,354 | 1.1659
149 | GENERAL MOTORS | CADILLAC CATERA | 16 | 13,801 | 1.1593
150 | NISSAN | INFINITI I30 | 28 | 24,215 | 1.1563
151 | FORD MOTOR CO | MERCURY VILLAGER MPV | 59 | 51,066 | 1.1554
152 | FORD MOTOR CO | WINDSTAR VAN | 233 | 203,936 | 1.1425
153 | GENERAL MOTORS | SATURN SC | 54 | 47,578 | 1.1350
154 | AUDI | A6 | 28 | 24,809 | 1.1286
155 | MAZDA | MX-5 MIATA | 38 | 33,723 | 1.1268
156 | BMW | M | 3 | 2,731 | 1.0985
157 | HONDA | ACURA CL | 27 | 24,960 | 1.0817
158 | GENERAL MOTORS | CHEVROLET VENTURE VAN | 93 | 88,071 | 1.0560
159 | VOLKSWAGEN | CABRIO | 15 | 14,734 | 1.0181
160 | ISUZU | VEHICROSS | 2 | 2,005 | 0.9975
161 | DAIMLERCHRYSLER | DODGE VIPER | 1 | 1,033 | 0.9681
162 | GENERAL MOTORS | BUICK RIVIERA | 2 | 2,091 | 0.9565
163 | VOLKSWAGEN | PASSAT | 75 | 79,396 | 0.9446
164 | TOYOTA | LEXUS LS | 16 | 17,291 | 0.9253
165 | VOLKSWAGEN | NEW BEETLE | 60 | 66,867 | 0.8973
166 | AUDI | A8 | 2 | 2,244 | 0.8913
167 | FORD MOTOR CO | CROWN VICTORIA | 104 | 118,849 | 0.8751
168 | SUBARU | LEGACY | 78 | 90,840 | 0.8587
169 | PORSCHE | 911 | 11 | 12,887 | 0.8536
170 | SUBARU | IMPREZA | 17 | 20,208 | 0.8413
171 | AUDI | A4 | 26 | 31,892 | 0.8153
172 | HONDA | ACURA TL | 45 | 55,646 | 0.8087
173 | VOLKSWAGEN | EUROVAN | 2 | 2,555 | 0.7828
174 | MERCEDES BENZ | 202 (C-CLASS) | 28 | 37,472 | 0.7472
175 | ISUZU | AMIGO | 8 | 11,359 | 0.7043
176 | SUBARU | FORESTER | 32 | 46,668 | 0.6857
177 | JAGUAR | VANDEN PLAS | 3 | 4,435 | 0.6764
178 | HONDA | CR-V | 72 | 110,945 | 0.6490
179 | TOYOTA | SIENNA VAN | 43 | 69,531 | 0.6184
180 | GENERAL MOTORS | SATURN SW | 10 | 16,420 | 0.6090
181 | JAGUAR | XJR | 1 | 1,778 | 0.5624
182 | PORSCHE | BOXSTER CONVERTIBLE | 7 | 13,234 | 0.5289
183 | GENERAL MOTORS | OLDSMOBILE SILHOUETTE VAN | 20 | 38,130 | 0.5245
184 | HONDA | ODYSSEY VAN | 6 | 50,425 | 0.1190
185 | DAIMLERCHRYSLER | PLYMOUTH PROWLER | 0 | 3,655 | 0.0000
186 | FERRARI | 360 | 0 | 445 | 0.0000
187 | FERRARI | 456 | 0 | 119 | 0.0000
188 | FERRARI | 550 | 0 | 259 | 0.0000
189 | GENERAL MOTORS | BUICK FUNERAL COACH | 0 | 993 | 0.0000
190 | HONDA | ACURA NSX | 0 | 243 | 0.0000
191 | ISUZU | OASIS VAN | 0 | 702 | 0.0000
192 | LAMBORGHINI | DB132/DIABLO | 0 | 162 | 0.0000
193 | LOTUS | ESPRIT | 0 | 121 | 0.0000
194 | ROLLS-ROYCE | BENTLEY AZURE | 0 | 70 | 0.0000
195 | ROLLS-ROYCE | BENTLEY CONTINENTAL R | 0 | 6 | 0.0000
196 | ROLLS-ROYCE | BENTLEY CONTINENTAL SC | 0 | 23 | 0.0000
197 | ROLLS-ROYCE | BENTLEY CONTINENTAL T | 0 | 5 | 0.0000
198 | ROLLS-ROYCE | BENTLEY TURBO R | 0 | 2 | 0.0000
199 | ROLLS-ROYCE | SILVER SERAPH | 0 | 299 | 0.0000
200 | ROLLS-ROYCE | SILVER SPUR | 0 | 51 | 0.0000
201 | ROLLS-ROYCE | SILVER SPUR PARK WARD | 0 | 2 | 0.0000
¹ These vehicles were manufactured for sale in the U.S. territories under the Chrysler name plate.
² Nativa is the name applied to Montero Sport vehicles that are manufactured for sale only in Puerto Rico.

Issued on: July 20, 2001.
Stephen R. Kratzke,
Associate Administrator for Safety Performance Standards.

[FR Doc. 01-18585 Filed 7-30-01; 8:45 am]

BILLING CODE 4910-59-P